DEPARTMENT OF ENERGY

Federal Energy Regulatory Commission

Combined Notice of Filings #1

Take notice that the Commission received the following exempt wholesale generator filings:

Docket Numbers: EG24-193-000.

Applicants: McFarland Storage C, LLC.

Description: McFarland Storage C, LLC submits Notice of Self-Certification of Exempt Wholesale Generator Status.

Filed Date: 5/31/24.

Accession Number: 20240531-5043.

Comment Date: 5 p.m. ET 6/21/24.

Docket Numbers: EG24-194-000.

Applicants: Ross County Solar, LLC.

Description: Ross County Solar, LLC submits Notice of Self-Certification of Exempt Wholesale Generator Status.

Filed Date: 5/31/24.

Accession Number: 20240531-5169.

Comment Date: 5 p.m. ET 6/21/24.

Docket Numbers: EG24-195-000.

Applicants: Fayette Solar, LLC.

Description: Fayette Solar, LLC submits Notice of Self-Certification of Exempt Wholesale Generator Status.

Filed Date: 5/31/24.

Accession Number: 20240531-5177.

Comment Date: 5 p.m. ET 6/21/24.

Docket Numbers: EG24-196-000.

Applicants: Fillmore County Solar Project, LLC.

Description: Fillmore County Solar Project, LLC submits Notice of Self-Certification of Exempt Wholesale Generator Status.

Filed Date: 5/31/24.

Accession Number: 20240531-5193.

Comment Date: 5 p.m. ET 6/21/24.

Docket Numbers: EG24-197-000.

Applicants: Louise Solar Project, LLC.

Description: Louise Solar Project, LLC submits Notice of Self-Certification of Exempt Wholesale Generator Status.

Filed Date: 5/31/24.

Accession Number: 20240531-5220.

Comment Date: 5 p.m. ET 6/21/24.

Take notice that the Commission received the following Complaints and Compliance filings in EL Dockets:

Docket Numbers: EL24-113-000.

Applicants: Independent Market Monitor for PJM v. Indicated Energy Efficiency Sellers.

Description: Complaint of the Independent Market Monitor for PJM v. Indicated Energy Efficiency Sellers.

Filed Date: 5/31/24.

Accession Number: 20240531-5048.

Comment Date: 5 p.m. ET 6/20/24.

Take notice that the Commission received the following electric rate filings:

Docket Numbers: ER16-2320-014.

Applicants: Pacific Gas and Electric Company.

Description: Compliance filing: TO18 Settlement 2024 to be effective 3/1/2017.

Filed Date: 5/31/24.

Accession Number: 20240531-5159.

Comment Date: 5 p.m. ET 6/21/24.

Docket Numbers: ER17-2154-004.

Applicants: Pacific Gas and Electric Company.

Description: Compliance filing: TO19 Settlement 2024 to be effective 3/1/2018.

Filed Date: 5/31/24.

Accession Number: 20240531-5168.

Comment Date: 5 p.m. ET 6/21/24.

Docket Numbers: ER19-13-010.

Applicants: Pacific Gas and Electric Company.

Description: Compliance filing: TO20 Settlement 2024 to be effective N/A.

Filed Date: 5/31/24.

Accession Number: 20240531-5171.

Comment Date: 5 p.m. ET 6/21/24.

Docket Numbers: ER23-2968-002.

Applicants: Pacific Gas and Electric Company.

Description: Compliance filing: TO Settlement Balancing Accounts Update 2024 to be effective N/A.

Filed Date: 5/31/24.

Accession Number: 20240531-5176.

Comment Date: 5 p.m. ET 6/21/24.

Docket Numbers: ER24-1403-001.

Applicants: Arizona Public Service Company.

Description: Tariff Amendment: Response to Deficiency—MBR Tariff Revisions to be effective 7/31/2024.

Filed Date: 5/31/24.

Accession Number: 20240531-5221.

Comment Date: 5 p.m. ET 6/21/24.

Docket Numbers: ER24-1634-001.

Applicants: Midcontinent Independent System Operator, Inc., Entergy Services, LLC.

Description: Tariff Amendment: Midcontinent Independent System Operator, Inc. submits tariff filing per 35.17(b): 2024-05-31_Defer Action for Entergy Companies Attachment O Clean Up to be effective 12/31/9998.

Filed Date: 5/31/24.

Accession Number: 20240531-5079.

Comment Date: 5 p.m. ET 6/21/24.

Docket Numbers: ER24-1703-001.

Applicants: Entergy Mississippi, LLC.

Description: Tariff Amendment: Harvest Gold Solar, LLC, LBA Agreement to be effective 4/5/2024.

Filed Date: 5/31/24.

Accession Number: 20240531-5025.

Comment Date: 5 p.m. ET 6/21/24.

Docket Numbers: ER24-1715-001.

Applicants: Entergy Texas, Inc.

Description: Tariff Amendment: Liberty County Solar Project LLC, LBA Agreement to be effective 4/6/2024.

Filed Date: 5/31/24.

Accession Number: 20240531-5026.

Comment Date: 5 p.m. ET 6/21/24.

Docket Numbers: ER24-2148-000.

Applicants: McFarland Storage C, LLC.

Description: Baseline eTariff Filing: McFarland Storage C, LLC MBR Tariff to be effective 7/1/2024.

Filed Date: 5/31/24.

Accession Number: 20240531-5003.

Comment Date: 5 p.m. ET 6/21/24.

Docket Numbers: ER24-2149-000.

Applicants: Entergy Arkansas, LLC.

Description: § 205(d) Rate Filing: Union Electric WDS Agreement to be effective 8/1/2024.

Filed Date: 5/31/24.

Accession Number: 20240531-5041.

Comment Date: 5 p.m. ET 6/21/24.

Docket Numbers: ER24-2150-000.

Applicants: Sunflower Electric Power Corporation, Southwest Power Pool, Inc.

Description: § 205(d) Rate Filing: Sunflower Electric Power Corporation submits tariff filing per 35.13(a)(2)(iii: Sunflower Electric Power Corporation—Formula Rates Revisions to be effective 8/1/2024.

Filed Date: 5/31/24.

Accession Number: 20240531-5116.

Comment Date: 5 p.m. ET 6/21/24.

Docket Numbers: ER24-2151-000.

Applicants: Entergy Arkansas, LLC.

Description: § 205(d) Rate Filing: EAL-SWPA Marketing Agreement to be effective 6/1/2024.

Filed Date: 5/31/24.

Accession Number: 20240531-5129.

Comment Date: 5 p.m. ET 6/21/24.

Docket Numbers: ER24-2152-000.

Applicants: Entergy Arkansas, LLC.

Description: § 205(d) Rate Filing: SWPA LBA Agreement to be effective 6/1/2024.

Filed Date: 5/31/24.

Accession Number: 20240531-5133.

Comment Date: 5 p.m. ET 6/21/24.

Docket Numbers: ER24-2154-000; TS24-4-000.

Applicants: Mammoth North LLC, Mammoth North LLC.

Description: Mammoth North LLC requests waiver of Commission's Open Access Transmission Tariff, Open Access Same-Time Information System, and Standards of Conduct Requirements as applied to interconnection facilities.

Filed Date: 5/22/24.

Accession Number: 20240522-5267.

Comment Date: 5 p.m. ET 6/12/24.

Docket Numbers: ER24-2155-000.

Applicants: Southern California Edison Company.

Description: § 205(d) Rate Filing: E&P LA, Data Centers Two (EAK048-WDT1810EXP/RS536) to be effective 6/1/2024.

Filed Date: 5/31/24.

Accession Number: 20240531-5203.

Comment Date: 5 p.m. ET 6/21/24.

Docket Numbers: ER24-2156-000.

Applicants: American Electric Power Service Corporation, PJM Interconnection, L.L.C.

Description: § 205(d) Rate Filing: American Electric Power Service Corporation submits tariff filing per 35.13(a)(2)(iii: AEP submits one Facilities Agreement re: ILDSA, SA No. 1336 to be effective 8/1/2024.

Filed Date: 5/31/24.

Accession Number: 20240531-5204.

Comment Date: 5 p.m. ET 6/21/24.

Docket Numbers: ER24-2157-000.

Applicants: Midcontinent Independent System Operator, Inc.

Description: § 205(d) Rate Filing: 2024-05-31_SA 4137 Duke-Ratts 2-Ratts 1 MPFCA 1st Rev (J1027 J1028 J1189) to be effective 7/31/2024.

Filed Date: 5/31/24.

Accession Number: 20240531-5215.

Comment Date: 5 p.m. ET 6/21/24.

Docket Numbers: ER24-2159-000.

Applicants: Cross-Sound Cable Company, LLC.

Description: § 205(d) Rate Filing: 2024 IROL-CIP Schedule 17 Cost Recovery to be effective 7/31/2024.

Filed Date: 5/31/24.

Accession Number: 20240531-5234.

Comment Date: 5 p.m. ET 6/21/24.

Docket Numbers: ER24-2160-000.

Applicants: Southern California Edison Company.

Description: Tariff Amendment: Terminate DSA for Inglewood Energy Storage (WDT1602/SA No. 1125) to be effective 6/1/2024.

Filed Date: 5/31/24.

Accession Number: 20240531-5243.

Comment Date: 5 p.m. ET 6/21/24.

Docket Numbers: ER24-2161-000.

Applicants: Alabama Power Company, Georgia Power Company, Mississippi Power Company.

Description: Tariff Amendment: Alabama Power Company submits tariff filing per 35.15: Morven Solar LGIA Termination Filing to be effective 5/31/2024.

Filed Date: 5/31/24.

Accession Number: 20240531-5254.

Comment Date: 5 p.m. ET 6/21/24.

Docket Numbers: ER24-2162-000.

Applicants: Alabama Power Company, Georgia Power Company, Mississippi Power Company.

Description: Tariff Amendment: Alabama Power Company submits tariff filing per 35.15: Worth Solar LGIA Termination Filing to be effective 5/31/2024.

Filed Date: 5/31/24.

Accession Number: 20240531-5256.

Comment Date: 5 p.m. ET 6/21/24.

Docket Numbers: ER24-2163-000.

Applicants: Alabama Power Company, Georgia Power Company, Mississippi Power Company.

Description: § 205(d) Rate Filing: Alabama Power Company submits tariff filing per 35.13(a)(2)(iii: Pine Cone Solar LGIA Filing to be effective 5/22/2024.

Filed Date: 5/31/24.

Accession Number: 20240531-5260.

Comment Date: 5 p.m. ET 6/21/24.

Docket Numbers: ER24-2164-000.

Applicants: Alabama Power Company, Georgia Power Company, Mississippi Power Company.

Description: § 205(d) Rate Filing: Alabama Power Company submits tariff filing per 35.13(a)(2)(iii: Pine Cone Solar 2 LGIA Filing to be effective 5/22/2024.

Filed Date: 5/31/24.

Accession Number: 20240531-5261.

Comment Date: 5 p.m. ET 6/21/24.

Docket Numbers: ER24-2165-000.

Applicants: New York Independent System Operator, Inc.

Description: § 205(d) Rate Filing: NYISO 205 Filing: PPTPP Development Agreement—NYISO, NYPA, & NYTransco SA2843 to be effective 5/3/2024.

Filed Date: 5/31/24.

Accession Number: 20240531-5265.

Comment Date: 5 p.m. ET 6/21/24.

Docket Numbers: ER24-2166-000.

Applicants: Invenergy Nelson Expansion LLC.

Description: Initial rate filing: Filing of Reactive Power Rate Schedule to be effective 6/1/2024.

Filed Date: 5/31/24.

Accession Number: 20240531-5348.

Comment Date: 5 p.m. ET 6/21/24.

Docket Numbers: ER24-2167-000.

Applicants: Sayreville Power, LLC.

Description: § 205(d) Rate Filing: Proposed Rate Schedule Revisions and Request for Limited Tariff Waiver to be effective 6/1/2024.

Filed Date: 5/31/24.

Accession Number: 20240531-5350.

Comment Date: 5 p.m. ET 6/21/24.

Docket Numbers: ER24-2168-000.

Applicants: California Independent System Operator Corporation.

Description: § 205(d) Rate Filing: 2024-05-31 Price Formation Enhancements Tariff Amendment to be effective 8/1/2024.

Filed Date: 5/31/24.

Accession Number: 20240531-5353.

Comment Date: 5 p.m. ET 6/21/24.

Docket Numbers: ER24-2169-000.

Applicants: New England Power Pool Participants Committee.

Description: § 205(d) Rate Filing: Jun 2024 Membership Filing to be effective 5/1/2024.

Filed Date: 5/31/24.

Accession Number: 20240531-5367.

Comment Date: 5 p.m. ET 6/21/24.

Docket Numbers: ER24-2170-000.

Applicants: Public Service Company of New Mexico.

Description: § 205(d) Rate Filing: Limited Modifications to Formula Rate to be effective 6/1/2024.

Filed Date: 5/31/24.

Accession Number: 20240531-5368.

Comment Date: 5 p.m. ET 6/21/24.

The filings are accessible in the Commission's eLibrary system (https://elibrary.ferc.gov/idmws/search/fercgensearch.asp) by querying the docket number.

Any person desiring to intervene, to protest, or to answer a complaint in any of the above proceedings must file in accordance with Rules 211, 214, or 206 of the Commission's Regulations (18 CFR 385.211, 385.214, or 385.206) on or before 5:00 p.m. Eastern time on the specified comment date. Protests may be considered, but intervention is necessary to become a party to the proceeding.

eFiling is encouraged. More detailed information relating to filing requirements, interventions, protests, service, and qualifying facilities filings can be found at: http://www.ferc.gov/docs-filing/efiling/filing-req.pdf. For other information, call (866) 208-3676 (toll free). For TTY, call (202) 502-8659.

The Commission's Office of Public Participation (OPP) supports meaningful public engagement and participation in Commission proceedings. OPP can help members of the public, including landowners, environmental justice communities, Tribal members and others, access publicly available information and navigate Commission processes. For public inquiries and assistance with making filings such as interventions, comments, or requests for rehearing, the public is encouraged to contact OPP at (202) 502-6595 or OPP@ferc.gov.

Dated: May 31, 2024.
Debbie-Anne A. Reese,
Acting Secretary.

[FR Doc. 2024-12428 Filed 6-5-24; 8:45 am]

BILLING CODE 6717-01-P